DEPARTMENT OF ENERGY

Federal Energy Regulatory Commission

[Docket No. CP01-369-000]

Williams Gas Processing-Gulf Coast Company, L.P.; Notice of Petition for a Declaratory Order

May 29, 2001.

Take notice that on May 18, 2001, Williams Gas Processing-Gulf Coast Company, L.P. (WGP), P.O. Box 1396, Houston, Texas 77251, filed a petition for a declaratory order in Docket No. CP01-369-000, requesting that the Commission declare that WGP's acquisition, ownership and operation of the Central Louisiana Gathering System located largely onshore Louisiana and in offshore waters on the Outer Continental Shelf (OCS), currently owned by WGP's affiliate, Transcontinental Gas Pipe Line Corporation (Transco), would have the primary function of gathering of natural gas and would thereby be exempt from the Commission's jurisdiction pursuant to section 1(b) of the Natural Gas Act, all as more fully set forth in the petition which is on file with the Commission and open to public inspection. The filing may be viewed on the web at http://www.ferc.fed.us/online/rims.htm (call 202-208-2222 for assistance).

It is stated that Transco and WGP have entered into a Transfer and Assignment Agreement, as amended, under which Transco will transfer the subject gathering facilities to WGP at net book value, as set forth in Transco's application. WGP states that conveyance of the facilities will become effective on the last business day of the calendar month following a Commission order approving the abandonment and acceptable to Transco and WGP, or at a mutually agreeable date thereafter. Pursuant to the transfer agreement, WGP states that it will provide gathering services in a manner consistent with open access and non-discriminatory principles. WGP states that this petition is a companion to Transco's concurrently filed application to abandon the subject facilities by transfer to WGP in Docket No. CP01-368-000.

WGP states that this petition and the accompanying Transco application for abandonment are based on the Commission's current policy regarding its NGA jurisdiction over offshore facilities as set forth in the Sea Robin remand order, Sea Robin Pipeline Co., 87 FERC ¶ 61,384 (1999), reh'g denied, 92 FERC ¶ 61,072 (2000) (Sea Robin). WGP states that although WGP and Transco have a similar spindown proceeding that has been pending before the Commission on rehearing since 1996, in this proceeding WGP and Transco have revised their spindown requests pursuant to the new policy in order to obtain prompt Commission Action.

WGP states that Transco and WGP are undertaking to spindown Transco's offshore gathering facilities, on a system-by-system basis, under the Commission's reformulated “primary function” principles recently announced in Sea Robin. WGP states that on November 20, 2000, Transco and WGP filed to spindown portions of Transco's North Padre and Central Texas gathering systems together in Docket Nos. CP01-34-000 and CP01-32-000. It is also stated that on March 12, 2001, in Docket Nos. CP01-103-000 and CP01-104-000, Transco and WGP filed to spindown Transco's North High Island/West Cameron gathering system. WGP states that the instant application and petition propose to spindown Transco's Central Louisiana Gathering System. WGP states that it is Transco's and WGP's hope that presenting the revised spindown filings on a system-by-system basis under the Commission's current policy—the reformulated primary function test—facilitate the Commission's prompt review and approval of the filings.

WGP submits that the primary function of the facilities is gathering, consistent with the criteria set forth in Farmland Industries, Inc. (23 FERC ¶ 61,063 (1983)), as modified in subsequent orders. WGP submits that WGP's requested gathering determination and Transco's requested firm-to-gathering rate design go hand in hand.

Any questions concerning this application may be directed to Mari M. Ransey, Esq., One Williams Center, MD 41-3, Tulsa, Oklahoma 74172, call (918) 573-2611.

There are two ways to become involved in the Commission's review of this project. First, any person wishing to obtain legal status by becoming a party to the proceedings for this project should, on or before June 19, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project copies of their protests only to the party or parties directly involved in the protest.

Comments, protests and interventions may be filed electronically via the internet in lieu of paper. See, 18 CFR 385.2001(a)(1)(iii) and the instructions on the Commission's web site at http://www.ferc.fed.us/efi/doorbell.htm.

If the Commission decides to set the application for a formal hearing before an Administrative law Judge, the Commission will issue another notice describing that process. At the end of the Commission's review process, a final Commission order approving or denying a certificate will be issued.

David P. Boergers,
Secretary.

[FR Doc. 01-13875 Filed 6-1-01; 8:45 am]

BILLING CODE 6717-01-M